DEPARTMENT OF HOMELAND SECURITY

[Docket Number DHS-2024-0035]

Agency Information Collection Activities: Securing the Cities Field Operator Stakeholder Feedback Survey

AGENCY: Department of Homeland Security (DHS).

ACTION: 60-Day notice and request for comments.

SUMMARY: The Department of Homeland Security will submit the following Information Collection Request (ICR) to the Office of Management and Budget (OMB) for review and clearance in accordance with the Paperwork Reduction Act of 1995.

DATES: Comments are encouraged and will be accepted until December 16, 2024. This process is conducted in accordance with 5 CFR 1320.1

ADDRESSES: You may submit comments, identified by docket number Docket # DHS-2024-0035, at:

○ Federal eRulemaking Portal: http://www.regulations.gov. Please follow the instructions for submitting comments.

Instructions: All submissions received must include the agency name and docket number Docket # DHS-2024-0035. All comments received will be posted without change to http://www.regulations.gov, including any personal information provided.

Docket: For access to the docket to read background documents or comments received, go to http://www.regulations.gov.

SUPPLEMENTARY INFORMATION: The purpose of this survey is to collect qualitative stakeholder feedback information from current law enforcement personnel regarding their experience supporting the Securing the Cities (STC) program, specifically the use of personal radiation detectors (PRDs). This survey is anonymous and voluntary, and the information collected will be used to improve future STC products or services. Responses to the survey will be used as a key component to the STC PRD Post Implementation Report (PIR). The PIR is conducted after an acquisition capability has been fielded long enough to gather sufficient feedback from the end user on whether the system is meeting performance objectives and operating satisfactorily.

STC is a program supported by the Department of Homeland Security (DHS) Countering Weapons of Mass Destruction (CWMD) office. The STC program helps State and local agencies in several regions detect radiological and nuclear materials that could be used in a terrorist attack. STC funds, for example, provide for the purchase of wearable radiation detectors for police officers. Having deployed thousands of radiation detection devices to STC sites, CWMD seeks customer feedback as to the integration of these devices into local law enforcement operations and any potential challenges related to the devices or the training that can be addressed to improve mission operations locally and across all STC regions.

This collection of information is necessary to enable CWMD to garner stakeholder feedback in an efficient, timely manner, in accordance with DHS's commitment to improving service delivery, by which we mean systematic review of the operation of a program compared to a set of explicit or implicit standards, as a means of contributing to the continuous improvement of the program. In this case, the STC program exists within DHS's CWMD Office. The information collected from STC stakeholders will help ensure that participants have an effective and efficient experience with this DHS CWMD program. Feedback will provide insights into STC stakeholder perceptions, experiences, and expectations, thus providing early indication of issues with program operations, or focus attention on areas where communication, training, technology, or changes in operations might improve local (within one STC region) or national (across all STC regions) program effectiveness. These collections will allow for ongoing, collaborative, and actionable communications between DHS and its stakeholders. It will also allow feedback to contribute directly to the improvement of program management.

Participants represent State and local agencies across 10 STC regions. All respondents have received training in the use of DHS-funded radiation equipment (e.g., personal radiation detector (PRD)) and are, or have been, using that equipment consistent with the STC program goals and under provisions set forth in cooperative agreements between DHS and each respective STC region. The CWMD Office maintains distribution lists for its programs and participant jurisdictions/entities and will coordinate with each STC region to ensure currency of contact information for prospective survey respondents.

DHS estimates the hour burden cost to the local or State government law enforcement operating in an STC region by multiplying the hour burden times the fully loaded hourly compensation wage for 100 workers. DHS uses a fully loaded compensation wage of $60.56 to represent the respondents for purposes of this information collection request (ICR). The fully loaded compensation wage is based on data presented by the Bureau of Labor Statistics (bls.gov) for State and local government workers. DHS estimates an annual hour burden cost of $504.46 (8.33 hours × $60.56 compensation wage) to Local or State government law enforcement operating in an STC region for purposes of this ICR.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Securing the Cities Field Operator Stakeholder Feedback Survey.

OMB Number: 1601-0014.

Frequency: Annually.

Affected Public: Local or State government law enforcement operating in a STC region.

Number of Respondents: 100.

Estimated Time per Respondent: 5 minutes.

Total Burden Hours: 8.33.

Robert Dorr,
Executive Director, Business Management Directorate.

[FR Doc. 2024-23757 Filed 10-11-24; 8:45 am]

BILLING CODE 9112-FL-P